DEPARTMENT OF DEFENSE

Department of the Army; Corps of Engineers

Intent To Prepare an Environmental Impact Statement for Northwest Aggregates' Previously Authorized Replacement of an Existing Barge Loading Facility in East Passage of Puget Sound on the Southeast Shoreline of Maury Island, King County, WA

AGENCY: Department of the Army, U.S. Army Corps of Engineers, DoD.

ACTION: Notice of intent.

SUMMARY: The U.S. Army Corps of Engineers (Corps) Seattle District is preparing an Environmental Impact Statement (EIS) to analyze the environmental effects of replacing an existing barge loading dock to facilitate resumption of sand and gravel mining operations at Northwest Aggregates' Maury Island facility. The Corps issued a permit to Northwest Aggregates for the dock replacement project on July 2, 2008, under Section 10 of the Rivers and Harbors Act of 1899 and Section 404 of the Clean Water Act. Northwest Aggregates has been enjoined by the U.S. District Court for the Western District of Washington from conducting any further marine construction work under the Corps' permit, until the Corps completes an EIS on the project. A portion of this marine construction work was done prior to the Court's 2009 ruling; the balance remains incomplete at this time. The EIS will analyze the environmental effects of the issuance of the Corps permit, including additional analysis of potential impacts of the project on the marine environment, including endangered species (Chinook salmon, Southern Resident Killer whales, rockfish, eulachon, and other listed species) and forage fish, additional analysis and evaluation of the no action and other alternatives to achieve the project purpose, and additional analysis of cumulative impacts associated with the permit project.

DATES: Scoping meetings for this project will be held on (see SUPPLEMENTARY INFORMATION section).

ADDRESSES: The scoping meeting locations are (see SUPPLEMENTARY INFORMATION section).

FOR FURTHER INFORMATION CONTACT: Written comments on the scope of the EIS or requests for information should be addressed to Mrs. Olivia Romano, Project Manager, U.S. Army Corps of Engineers, Seattle Regulatory Branch, 4735 E. Marginal Way South, Seattle, Washington 98134; (206) 764-6960 or via e-mail to NWAEIS@usace.army.mil.

SUPPLEMENTARY INFORMATION: The EIS process begins with the publication of this Notice of Intent. The scoping period will continue for 60 days after publication of this Notice of Intent and will close on August 9, 2010. During the scoping period the Corps invites Federal agencies, State and local governments, Native American Tribes, and the public to participate in the scoping process by providing written comments at any time during the scoping period or during attendance at one of the public scoping meetings scheduled at the times and locations indicated.

1. July 12, 2010 from 6 p.m. to 8:30 p.m., Seattle, Washington. An open house will be held as part of the meeting from 6 p.m. to 7 p.m. Following a presentation on the project the open house will continue from 7:30 p.m.to 8:30 p.m. Located at Federal Center South, 4735 East Marginal Way South, Seattle, WA.

2. July 14, 2010 from 6 p.m. to 8:30 p.m. Vashon Island, Washington. An open house will be held as part of the meeting from 6 p.m. to 7p.m. Following a presentation on the project the open house will continue from 7:30 p.m. to 8:30 p.m. Located at Vashon High School Commons, 20120 Vashon Highway, SW., Vashon Island, WA.

Written comments will be considered in the preparation of the Draft EIS. Comments postmarked or received by e-mail after the specified date will be considered to the extent feasible.

The purpose of the scoping meetings is to assist the Corps in defining existing conditions, anticipated project impacts, other issues, public concerns, a reasonable range of alternatives, and the depth to which the various alternatives will be evaluated in the EIS. The Corps has prepared a scoping announcement to familiarize agencies, the public and interested organizations with the Northwest Aggregates dock replacement project and potential environmental issues associated with completed construction work, the remaining construction work, and the operation of the dock. Copies of the scoping announcement will be available at the public meeting or can be requested by contacting the Corps Seattle District as described above. Corps' representatives will answer questions pertaining to the scope of the EIS, and accept scope-related comments.

The EIS will be prepared according to the Corps' procedures for implementing the National Environmental Policy Act (NEPA) of 1969, as amended, 42 U.S.C. 4332(C), and consistent with the Corps' policy to facilitate public understanding and review of agency proposals. As part of the EIS process a full range of reasonable alternatives will be evaluated. Development of the Draft EIS will begin after the close of the public scoping period. The Draft EIS is expected to be available for public review in the Fall 2010.

Michelle Walker,
Chief, Regulatory, Seattle District.

[FR Doc. 2010-13929 Filed 6-9-10; 8:45 am]

BILLING CODE 3720-58-P